DEPARTMENT OF THE TREASURY

Office of the Comptroller of the Currency

[Docket ID OCC-2011-0005]

FEDERAL RESERVE SYSTEM

[Docket No. R-1357]

FEDERAL DEPOSIT INSURANCE CORPORATION

DEPARTMENT OF THE TREASURY

Office of Thrift Supervision

[Docket ID OTS-2011-0001]

FARM CREDIT ADMINISTRATION

NATIONAL CREDIT UNION ADMINISTRATION

Registration of Mortgage Loan Originators

AGENCY: Office of the Comptroller of the Currency, Treasury (OCC); Board of Governors of the Federal Reserve System (Board); Federal Deposit Insurance Corporation (FDIC); Office of Thrift Supervision, Treasury (OTS); Farm Credit Administration (FCA); and National Credit Union Administration (NCUA).

ACTION: Notice.

SUMMARY: The OCC, Board, FDIC, OTS, FCA, and NCUA (collectively, the Agencies) are issuing a notice announcing that the initial registration period for Federal registrations required by the Secure and Fair Enforcement for Mortgage Licensing Act (the S.A.F.E. Act) and the Agencies' implementing rules issued July 28, 2010, will run from January 31, 2011, through July 29, 2011. The S.A.F.E. Act and the Agencies' final rules require employees of banks, savings associations, credit unions, or Farm Credit System (FCS) institutions as well as certain of their subsidiaries that are regulated by a Federal banking agency or the FCA (collectively, Agency-regulated institutions) who act as a residential mortgage loan originator to register with the Nationwide Mortgage Licensing System and Registry (Registry), obtain a unique identifier from the Registry, and maintain this registration.

DATES: The initial registration period began on January 31, 2011, and will end on July 29, 2011.

FOR FURTHER INFORMATION CONTACT:

OCC: Michele Meyer, Assistant Director, Heidi Thomas, Special Counsel, or Patrick T. Tierney, Counsel, Legislative and Regulatory Activities, (202) 874-5090, and Nan Goulet, Senior Advisor, Large Bank Supervision, (202) 874-5224, Office of the Comptroller of the Currency, 250 E Street, SW., Washington, DC 20219.

Board: Anne Zorc, Counsel, Legal Division, (202) 452-3876; or Stanley Rediger, Supervisory Financial Analyst, (202) 452-2629; or Frank P. Mongiello, Technology Delivery and Support Manager, (202) 452-6448, Division of Banking Supervision & Regulation, Board of Governors of the Federal Reserve System, 20th and C Streets, NW., Washington, DC 20551.

FDIC: Thomas F. Lyons, Examination Specialist, (202) 898-6850, Victoria Pawelski, Acting Section Chief, Compliance Policy, (202) 898-3571, Sharmae Gambrel, Review Examiner (Compliance), (413) 731-6457, x4541, or John P. Kotsiras, Financial Analyst, (202) 898-6620, Division of Supervision and Consumer Protection; or Richard Foley, Counsel, (202) 898-3784, Legal Division, Federal Deposit Insurance Corporation, 550 17th Street, NW., Washington, DC 20429.

OTS: Charlotte M. Bahin, Special Counsel (Special Projects), (202) 906-6452, Vicki Hawkins-Jones, Acting Deputy Chief Counsel, Regulations and Legislation Division, (202) 906-7034, Richard Bennett, Senior Compliance Counsel, (202) 906-7409, and Rhonda Daniels, Director, Consumer Regulations, (202) 906-7158, Office of Thrift Supervision, 1700 G Street, NW., Washington, DC 20552.

FCA: Gary K. Van Meter, Acting Director, Office of Regulatory Policy, (703) 883-4414, TTY (703) 883-4434, or Richard A. Katz, Senior Counsel, or Jennifer Cohn, Senior Counsel, Office of General Counsel, (703) 883-4020, TTY (703) 883-4020, Farm Credit Administration, 1501 Farm Credit Drive, McLean, VA 22102-5090.

NCUA: Regina Metz, Staff Attorney, Office of General Counsel, 703-518-6561, or Lisa Dolin, Program Officer, Division of Supervision, Office of Examination and Insurance, 703-518-6360, National Credit Union Administration, 1775 Duke Street, Alexandria, VA 22314-3428.

SUPPLEMENTARY INFORMATION:

Background

The S.A.F.E. Act,¹ enacted on July 30, 2008, mandates a nationwide licensing and registration system for mortgage loan originators. Specifically, the Act requires: (1) All States to provide for a licensing and registration regime for State-regulated mortgage loan originators; and (2) the Agencies to develop and maintain a system for registering mortgage loan originators employed by Agency-regulated institutions (Federal registration). The S.A.F.E. Act specifically prohibits an individual from engaging in the business of residential mortgage loan origination without first obtaining and maintaining annually a State license or a Federal registration and a unique identifier. The S.A.F.E. Act requires that State licensing and Federal registration must be accomplished through the Nationwide Mortgage Licensing System and Registry (Registry).

¹ The S.A.F.E. Act was enacted as part of the Housing and Economic Recovery Act of 2008, Public Law 110-289, Division A, Title V, sections 1501-1517, 122 Stat. 2654, 2810-2824 (July 30, 2008), codified at 12 U.S.C. 5101-5116.

The Agencies published a final rule on July 28, 2010, to implement the S.A.F.E. Act.² Specifically, the final rule requires mortgage loan originators employed by Agency-regulated institutions to register with the Registry and maintain their registration. Pursuant to the S.A.F.E. Act, a mortgage loan originator also is required to obtain a unique identifier through the Registry that will remain with that originator, regardless of changes in employment. Furthermore, the final rule requires mortgage loan originators (and their employing Agency-regulated institutions) to provide these unique identifiers to consumers in certain circumstances. The rule provides an exception to these requirements for originators who originate a de minimis number of residential mortgage loans.

² 75 FR 44656. The Agencies' rules are codified at 12 CFR part 34 (OCC), 12 CFR parts 208 and 211 (Board), 12 CFR part 365 (FDIC), 12 CFR part 563 (OTS), 12 CFR part 610 (FCA), and 12 CFR parts 741 and 761 (NCUA). Because the Agencies' rules use consistent section numbering, relevant sections are cited, for example, as “section _.103.”

In addition, the final rule provides that an Agency-regulated institution must require its employees who are mortgage loan originators to comply with these requirements and specifically prohibits the institution from permitting its employees to act as mortgage loan originators unless registered with the Registry pursuant to the final rule and the S.A.F.E. Act. The rule requires Agency-regulated institutions to adopt and follow written policies and procedures to assure compliance with the registration requirements.

The final rule was effective on October 1, 2010. However, because the necessary modifications to the Registry were not to be completed by that date, the final rule provided that Agency-regulated institutions and their employees were not required to comply with the final rule's registration requirements until notified to do so by the Agencies.

Specifically, § _.103(a)(3) of the final rule provides that the 180-day implementation period for initial registrations will begin on the date the Agencies provide in a public notice that the Registry is accepting initial registrations. The Agencies jointly announced on January 31st, 2011 that the initial registration period will run from January 31, 2011 through July 29, 2011.³ After this 180-day period expires, any existing employee or newly hired employee of an Agency-regulated institution who is subject to the registration requirements will be prohibited from originating residential mortgage loans without first meeting such requirements.

³ See joint press release issued on January 31, 2011 at http://www.occ.gov/news-issuances/news-releases/2011/index-2011-news-releases.html; http://www.federalreserve.gov/newsevents/default.htm; http://www.fdic.gov/news/news/press/2011/index.html; http://www.ots.treas.gov/?p=NewsEvents; http://www.fca.gov/newsr.nsf/2011?OpenView; http://www.ncua.gov/NewsPublications/News/PressRelease.aspx; and http://www.fca.gov/newsr.nsf/2011?OpenView.

Section 1504 of the S.A.F.E. Act (12 U.S.C. 5103) requires that mortgage loan originators maintain their registration annually. To implement this requirement, section _.103(b)(1)(i) of the final rule requires that a registered mortgage loan originator must renew his or her registration with the Registry during the annual renewal period, November 1 through December 31 of each year. However, § _.103(b)(3) of the final rule provides that a mortgage loan originator is not required to renew his or her registration during this annual renewal period if registration was completed less than six months prior to the end of the renewal period.

Further information regarding the Registry and the registration process is available at the Registry's Web site: http://mortgage.nationwidelicensingsystem.org/fedreg/Pages/default.aspx.

Dated: January 24, 2011.
John Walsh,
Acting Comptroller of the Currency.
By Order of the Board of Governors of the Federal Reserve System, January 28, 2011.
Jennifer J. Johnson,
Secretary of the Board.
Dated at Washington, DC on January 26, 2011.
By order of the Board of Directors.
Federal Deposit Insurance Corporation.
Robert E. Feldman,
Executive Secretary.
Dated: January 19, 2011.
By the Office of Thrift Supervision.
John E. Bowman,
Acting Director.
Dated: January 13, 2011.
Dale Aultman,
Secretary,
Farm Credit Administration Board.
Dated: January 28, 2011.
Mary F. Rupp,
Secretary to the Board, National Credit Union Administration.

[FR Doc. 2011-2378 Filed 2-2-11; 8:45 am]

BILLING CODE 4810-33-P; 6210-01-P; 6714-01-P; 6720-01-P; 7535-01-P